DEPARTMENT OF HOMELAND SECURITY

Coast Guard

33 CFR Part 117

[Docket No. USCG-2013-0007]

Drawbridge Operation Regulations; Atlantic Intracoastal Waterway and Biscayne Bay, Miami, FL

AGENCY: Coast Guard, DHS.

ACTION: Notice of temporary deviations from regulations.

SUMMARY: The Coast Guard has issued temporary deviations from the regulations governing the operation of the following two bridges in Miami, Florida: The Venetian Causeway Bridge (West), mile 1088.6, across the Atlantic Intracoastal Waterway; and the Venetian Causeway Bridge (East), across Biscayne Bay. The deviations are necessary due to the high volume of vessel and vehicle traffic anticipated during the Miami International Boat Show, which will be held in Miami Beach, Florida from February 11, 2013, through February 19, 2013. These deviations will result in the bridges opening to navigation on the hour and half-hour before, during, and after the Miami International Boat Show.

DATES: These deviations are effective from 7 a.m. on February 11, 2013, through 9 p.m. on February 19, 2013.

ADDRESSES: The docket for this temporary deviation, USCG-2013-0007, is available online by going to http://www.regulations.gov, inserting USCG-2013-0007 in the “Search” box and then clicking “Search”. The docket is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this temporary deviation, call or email Jessica Hopkins, Seventh District Bridge Branch, Coast Guard; telephone (305) 415-6744, email Jessica.R.Hopkins@uscg.mil. If you have questions on viewing the docket, call Renee V. Wright, Program Manager, Docket Operations, telephone (202) 366-9826.

SUPPLEMENTARY INFORMATION: The Miami International Boat Show Operations Manager has requested temporary modifications to the operating schedules of the Venetian Causeway Bridge (West) and the Venetian Causeway Bridge (East) in Miami, Florida. These deviations will result in the bridges being allowed to open on the hour and half-hour from 7 a.m. to 9 p.m. daily, from February 11, 2013, through February 19, 2013. The Miami International Boat Show generates a high volume of vessel and vehicle traffic. In previous years, opening these bridges on demand has resulted in significant vehicle congestion and bridge mechanical failure. By opening the bridges on the hour and half-hour (rather than on demand) traffic congestion will be reduced. The temporary deviations will be effective from 7 a.m. on February 11, 2013 through 9 p.m. on February 19, 2013.

The vertical clearance, regular operating schedule, and deviation period for each bridge are set forth below.

1. Venetian Causeway Bridge (West), mile 1088.6. The vertical clearance of the Venetian Causeway Bridge (West), across the Atlantic Intracoastal Waterway is 12 feet. The normal operating schedule is set forth in 33 CFR 117.261(nn), which requires the bridge to open on signal; except that from 7 a.m. to 7 p.m., Monday through Friday, except Federal holidays, the bridge need only open on the hour and half-hour.

As a result of this temporary deviation, the Venetian Causeway Bridge (West) will only open to navigation on the hour and half-hour from 7 a.m. until 9 p.m. daily, from February 11, 2013, through February 19, 2013. At all other times the bridges will open on demand. The bridge will also continue to open as necessary, in accordance with 33 CFR 117.31.

2. Venetian Causeway Bridge (East). The vertical clearance of the Venetian Causeway Bridge (East), across Biscayne Bay is 6 feet. The normal operating schedule is set forth in 33 CFR 117.269, which requires the bridge to open on signal; except that from 7 a.m. to 7 p.m., Monday through Friday, except Federal holidays, the bridge need only open on the hour and half-hour.

As a result of this temporary deviation, the Venetian Causeway Bridge (East) will only open to navigation on the hour and half-hour from 7 a.m. until 9 p.m. daily, from February 11, 2013, through February 19, 2013. At all other times the bridges will open on demand. The bridge will also continue to open as necessary, in accordance with 33 CFR 117.31.

In accordance with 33 CFR 117.35(e), these drawbridges must return to their regular operating schedules immediately at the end of the effective period of this temporary deviation. These deviations from the operating regulations are authorized under 33 CFR 117.35.

Dated: January 8, 2013.
B. L. Dragon,
Bridge Program Director, Seventh Coast Guard District.

[FR Doc. 2013-00972 Filed 1-17-13; 8:45 am]

BILLING CODE P